DEPARTMENT OF TRANSPORTATION

Federal Aviation Administration

[Docket No. FAA 2010-1052]

Airport Investment Partnership Program

AGENCY: Federal Aviation Administration (FAA) DOT.

ACTION: Notice of receipt of application of Airglades Airport (2IS), Hendry County, Clewiston, Florida: Commencement of 30-Day public review and comment period.

SUMMARY: The Federal Aviation Administration (FAA) received the final application from Hendry County and Airglades Airport, LLC for the participation of Airglades Airport (2IS) in the Airport Investment Partnership Program (formerly the Airport Privatization Pilot Program) and has determined that the final application is substantially complete and accepted for review. The determination that the application is substantially complete results in the commencement of FAA's review and is not an approval or disapproval of the proposed privatization application.

The FAA is seeking information and comments from interested parties on the final application. The FAA will review the application, public comments, and any other relevant additional submission by the applicant or the public, and issue a decision approving or disapproving the application.

Title 49 U.S.C. Section 47134 establishes the Airport Investment Partnership Program and authorizes the Department of Transportation to grant exemptions from certain Federal statutory and regulatory requirement for airport privatization projects. The application procedures require the FAA to publish a notice of receipt of the final application in the Federal Register and accept public comment on the final application for a period of 60 days. However, the 60-day notice period is not a statutory or regulatory requirement. The applicants have requested the comment period be reduced to 30 days because they desire to obtain approval, assuming the application is sufficient, by September 30, 2019. Under Section 184 of the FAA Reauthorization Act of 2018, approval of an application by this date (and the project meets all other requirements), would permit the agency to issue a letter of intent for Airport Improvement Program grant funds. FAA has agreed to reduce the comment period based on the applicants' request.

DATES: Comments must be received by September 18, 2019. Comments that are received after that date will be considered only to the extent possible.

ADDRESSES: You may send written comments by any of the following methods.

• Federal eRulemaking Portal: Go to http://www.regulations.gov and follow the instructions for sending your comments electronically. Docket Number: FAA 2010-1052.

• Mail: Docket Management Facility, U.S. Department of Transportation, 1200 New Jersey Avenue SE, West Building Ground Floor, Room W12-140, Washington, DC 20590-0001.

• Hand Delivery: Deliver to mail address above between 9:00 a.m. and 5 p.m. EST, Monday through Friday, except Federal holidays.

• Fax: (202) 493-2251.

Identify all transmission with “Docket Number FAA 2010-1052” at the beginning of the document.

Examining the Application

The final application was filed under Docket Number FAA-2010-1052. You may examine the final application on the internet at: http://www.regulations.gov or on the FAA's website www.faa.gov or in person at the Docket Operations office between 9:00 a.m. and 5:00 p.m. EST, Monday through Friday, except Federal holidays. The Docket Operations Office (800-647-5527) is located at the U.S. Department of Transportation, 1200 New Jersey Avenue SE, West Building Ground Floor, Room W12-140, Washington, DC 20590-0001. The Docket contains the preliminary and final application, the agreements, any comments received and other information. Hendry County and Airglades Airport, LLC have also made copies of the final application available on www.airglades.com and the following location:

Hendry County Clerk of Courts, 25 E Hickpochee Avenue, LaBelle, Florida 33935, Monday-Friday 8:30 a.m.-4:45 p.m., Saturday & Sunday—Closed

Clewiston Public Library, 120 W Osceola Avenue, Clewiston, Florida 33440, Monday & Thursday 9 a.m.-8 p.m., Tuesday, Wednesday & Friday 9 a.m.-5 p.m., Saturday 9 a.m.-1 p.m., Sunday—Closed

Barron Library, 461 N Main Street, LaBelle, Florida 33935, Monday & Thursday 9 a.m.-8 p.m., Tuesday, Wednesday & Friday 9 a.m.-5 p.m., Saturday 9 a.m.-1 p.m., Sunday—Closed

Glades County Public Library, 201 Riverside Drive, Moore Haven, Florida 33471, Monday-Friday 9 a.m.-5 p.m., Saturday & Sunday—Closed

FOR FURTHER INFORMATION CONTACT: Cathryn Cason, Airport Compliance Specialist, Airport Compliance Division, ACO-100, Office of Airport Compliance and Management Analysis, Federal Aviation Administration, 800 Independence Ave. SW, Washington DC 20591. Telephone 202-267-3085.

SUPPLEMENTARY INFORMATION: Title 49 of the U.S. Code Section 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues for airport-related purposes, to pay back a portion of Federal grants upon the sale of an airport, and to return airport property deeded by the Federal Government upon transfer of the airport. The Administrator is also authorized to exempt the private purchaser or lessee from the requirements to use all airport revenues for airport-related purposes, to the extent necessary to permit the purchaser or lessee to earn compensation from the operations of the airport.

On September 16, 1997, the Federal Aviation Administration issued a notice of procedures to be used in applications for exemption under Airport Privatization Pilot Program (Notice of final application procedures for the Airport Privatization Pilot program: Application Procedures, 62 FR 48693-48708 (September 16, 1997) (Notice) (as modified, 62 FR 63211, Nov. 26, 1997). The FAA Reauthorization Act of 2018 amended Section 47134 by changing the name to Airport Investment Partnership Program, eliminated limitations on the number of airports that could participate along with several other changes. A request for participation in the Program must be initiated by the filing of either a preliminary or final application for exemption with the Federal Aviation Administration.

Hendry County submitted a preliminary application to the Program for Airglades Airport on October 6, 2010, the filing date of the preliminary application. FAA accepted the preliminary application on October 18, 2010. The preliminary application is posted on http://www.regulations.gov in Docket Number FAA 2010-1052 and is available for public review.

On August 8, 2019, Hendry County and Airglades Airport, LLC filed their final application. Airglades Airport, LLC plans to build a $461 million cargo complex and related support facilities to handle the transshipment of perishable goods. The project will also include construction of a tower, 10,000-foot runway and related facilities. According to the application, Airglades Airport, LLC has or intends to select AVPORTS to operate the airport under a separate agreement and Star America, or a related entity, as an investor/developer to manage and/or finance the airport development project after the acquisition of the Airport from the County.

Hendry County requested an exemption under 49 U.S.C. Section 47134(b)(1) to permit the use of revenue from the sale of airport property for non-airport purposes and under 49 U.S.C. Section 47134(b)(2) to forego the repayment of Federal grants; and Airglades Airport. LLC asked for an exemption under 49 U.S.C. Section 47134(b)(3) to permit them to earn compensation from the operation of the airport.

As part of its review of the final application, the FAA will consider all comments that are submitted by interested parties during the 30-day comment period for this notice.

Issued in Washington, DC, on August 14, 2019.
Kevin Willis,
Director, Office of Airport Compliance and Management Analysis.

[FR Doc. 2019-17785 Filed 8-16-19; 8:45 am]

BILLING CODE 4910-13-P